DEPARTMENT OF COMMERCE

Foreign-Trade Zones Board

[Order No. 1778]

Designation of New Grantee, Foreign-Trade Zone 41, Milwaukee, WI

Pursuant to its authority under the Foreign-Trade Zones Act of June 18, 1934, as amended (19 U.S.C. 81a-81u), and the Foreign-Trade Zones Board Regulations (15 CFR part 400), the Foreign-Trade Zones Board (the Board) adopts the following Order:

The Foreign-Trade Zones (FTZ) Board (the Board) has considered the application (filed 6/9/2011) submitted by the Foreign Trade Zone of Wisconsin, Ltd., grantee of FTZ 41, Milwaukee, Wisconsin, requesting reissuance of the grant of authority for said zone to the Port of Milwaukee, which has accepted such reissuance subject to approval by the FTZ Board. Upon review, the Board finds that the requirements of the FTZ Act and the Board's regulations are satisfied, and that the proposal is in the public interest.

Therefore, the Board approves the application and recognizes the Port of Milwaukee as the new grantee of Foreign Trade Zone 41, subject to the FTZ Act and the Board's regulations, including Section 400.28.

Signed at Washington, DC this 3rd day of August 2011.
Ronald K. Lorentzen,
Deputy Assistant Secretary of Commerce for Import Administration, Alternate Chairman, Foreign-Trade Zones Board.

[FR Doc. 2011-20566 Filed 8-11-11; 8:45 am]

BILLING CODE P